DEPARTMENT OF DEFENSE

Department of the Army; Corps of Engineers

Intent to Prepare a Draft Environmental Impact Statement for the Neuse River Basin Feasibility Study, NC

AGENCY: Department of the Army, U.S. Army Corps of Engineers, DoD.

ACTION: Notice of intent.

SUMMARY: The Neuse River Basin is the third largest basin in North Carolina, encompassing a total area of about 6,235 square miles. The Neuse River originates in north central North Carolina and flows southeasterly until it reaches tidal waters of Pamlico Sound. Water quality in the Neuse River Basin has become degraded from multiple causes, including: Rapidly expanding urban growth with increasingly rapid runoff from storm events; deforestation; expanding high-density livestock operations; and aging wastewater infrastructure. Fish and wildlife populations have suffered declines in diversity and vigor; and waterborne fish diseases have now become apparent, especially Pfiesteria. The U.S. Army Corps of Engineers, Wilmington District, in cooperation with the State of North Carolina Division of Water Resources has initiated the Neuse River Basin Feasibility Study in North Carolina. The purpose of the feasibility study is to develop and evaluate basin wide alternatives to improve water quality, restore anadromous fish passage, wetlands, stream, riparian buffer, and oyster habitat. We will also investigate flood damage reduction. The focus of this study is to identify resource problems, needs, and opportunities and develop solutions. The feasibility study is being carried out under the Corps of Engineers General Investigation Program and is being conducted in response to a congressional resolution adopted July 23, 1997.

FOR FURTHER INFORMATION CONTACT: Questions about the proposed action and DEIS can be answered by: Mr. Hugh Heine; Environmental Resources Section; U.S. Army Engineer District, Wilmington; P.O. Box 1890; Wilmington, NC 28402-1890; telephone: (910) 251-4070.

SUPPLEMENTARY INFORMATION: This study will investigate the following alternatives: No action alternative, restoration of wetland and stream habitats as well as riparian buffers which serve as natural filtering systems, oyster habitat restoration, removal or modification of low head dams and culverts to restore anadromous fish passages, and flood reduction. The final outcome of the study would be a feasibility report and an Environmental Impact Statement (EIS), which would recommend projects for construction authorization. All private parties and Federal, State, and local agencies having an interest in the study are hereby notified of the intent to prepare a DEIS and are invited to comment at this time. An initial scoping letter dated March 31, 1999 was circulated during the early planning phase of the study. Another scoping letter dated April 26, 2006 was sent out to continue the coordination process and solicit any additional comments on this study. All comments received as a result of this notice of intent and the above mentioned scoping letters will be considered in the preparation of the DEIS.

The lead agency for this project is the U.S. Army Engineer District, Wilmington. Cooperating agency status has not been assigned to, nor requested by, any other agency.

The DEIS is being prepared in accordance with the requirements of the National Environmental Policy Act of 1969, as amended, and will address the relationship of the proposed action to all other applicable Federal and State Laws and Executive Orders.

The DEIS is currently scheduled to be available spring 2008.

Dated: May 1, 2006.
John E. Pulliam, Jr.
Colonel, U.S. Army, District Commander.

[FR Doc. 06-4512 Filed 5-12-06; 8:45 am]

BILLING CODE 3710-CE-M